DEPARTMENT OF COMMERCE

National Oceanic and Atmospheric Administration

RIN 0648-XD607

Marine Mammals; File No. 18824

AGENCY: National Marine Fisheries Service (NMFS), National Oceanic and Atmospheric Administration (NOAA), Commerce.

ACTION: Notice; receipt of application.

SUMMARY: Notice is hereby given that Briana Witteveen, Ph.D., of the University of Alaska, Fairbanks, Kodiak Seafood and Marine Science Center (118 Trident Way, Kodiak, AK, 99615), has applied in due form for a permit to take multiple cetacean species for purposes of scientific research, with additional takes of several pinniped species by incidental harassment, within the Gulf of Alaska.

DATES: Written, telefaxed, or email comments must be received on or before December 22, 2014.

ADDRESSES: The application and related documents are available for review by selecting “Records Open for Public Comment” from the Features box on the Applications and Permits for Protected Species (APPS) home page, https://apps.nmfs.noaa.gov, and then selecting File No. 18824 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. (18824) in the subject line of the email comment.

Those individuals requesting a public hearing should submit a written request to the Chief, Permits and Conservation Division at the address listed above. The request should set forth the specific reasons why a hearing on this application would be appropriate.

FOR FURTHER INFORMATION CONTACT: Courtney Smith or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The above listed applicant requests a five-year permit to conduct scientific research on cetaceans year-round within the Gulf of Alaska. The purpose of this research is to improve understanding of the foraging behavior, prey use, and habitat overlap among sympatric whale species throughout their habitat. All research will involve non-lethal take using vessels to collect identification photographs, recording of vocalizations, biopsy sampling, prey parts, sloughed skin, suction cup attachment of tags and documenting behavioral response to acoustic deterrents. The species and annual takes requested for these research activities include: Humpback whales (Megaptera novaeangliae; 1000); Fin whales (Balaenoptera physalus; 1000); Killer whales (Orcinus orca; 1000); Gray whales (Eschrichtius robustus; 1000); Sei whales (Balaenoptera borealis; 70); North Pacific Right whales (Eubaelana glacialis; 50); Sperm whales (Physeter macrocephalus; 70); Minke whales (Balaenoptera acutorostrata; 70); and Blue whales (Balaenoptera musculus; 50). Additionally, up to 100 of each of the following species: Harbor Porpoise (Phocoena phocoena), Dall's porpoise (Phocoena dalli), and Pacific white-sided dolphins (Lagenorhynchus obliquidens), and up to 50 of Northern Fur seals (Callorhinus ursinus), Harbor seals (Phoca vitulina), Steller sea lion (Eumetopias jubatus) are requested to be taken annually, per species, by incidental harassment. Finally, the applicant requests to transport up to 50 biological samples from each species group (pinniped and cetacean) for archived storage or analysis.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: November 13, 2014.
Julia Harrison,
Chief, Permits and Conservation Division, Office of Protected Resources, National Marine Fisheries Service.

[FR Doc. 2014-27538 Filed 11-20-14; 8:45 am]

BILLING CODE 3510-22-P